DEPARTMENT OF STATE

[Public Notice 8523]

60-Day Notice of Proposed Information Collection: Department of State Mentor Protégé Program Application

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to January 17, 2014.

ADDRESSES: You may submit comments by any of the following methods:

• Web: Persons with access to the Internet may use the Federal Docket Management System (FDMS) to comment on this notice by going to www.Regulations.gov. You can search for the document by entering “Public Notice ####” in the Search bar. If necessary, use the Narrow by Agency filter option on the Results page.

• Email: burleynb@state.gov.

• Mail: A/SDBU, Nikki Burley, SA-6, Room L-500, Washington DC 20522-0602.

• Fax: 703-875-6825.

• Hand Delivery or Courier: 1701 North Ft. Myer Drive, Arlington, Virginia 22209.

You must include the DS form number (if applicable), information collection title, and the OMB control number in any correspondence.

FOR FURTHER INFORMATION CONTACT: Direct requests for additional information regarding the collection listed in this notice, including requests for copies of the proposed collection instrument and supporting documents, to Nikki Burley, A/SDBU, SA-6, Room L-500, Washington DC 20522-0602 who may be reached on 703-875-6824 or at burleynb@state.gov.

SUPPLEMENTARY INFORMATION:

• Title of Information Collection: Department of State Mentor Protégé Program Application.

• OMB Control Number: 1405-0161.

• Type of Request: Revision of a Currently Approved Collection.

• Originating Office: Bureau of Administration, Office of Small and Disadvantaged Business Utilization—A/SDBU.

• Form Number: DS-4053.

• Respondents: Small and large businesses planning to team together in an official mentor-protégé capacity to enhance the capabilities of the protégé firms to perform as prime contractors and subcontractors on Department of State procurements.

• Estimated Number of Respondents: 15.

• Estimated Number of Responses: 15.

• Average Time per Response: 12 hours.

• Total Estimated Burden Time: 180 hours.

• Frequency: Annually.

• Obligation to Respond: Voluntary.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection: This information collection facilitates a mentor-protégé program per Department of State Acquisition Regulations (DOSAR) 619.202-70 that encourages business agreements between small and large for-profit companies, for the purpose of forming a mentor-protégé relationship that will provide developmental assistance and to enhance the capabilities of the protégé firms to perform as prime contractors and subcontractors on Department of State procurements.

Methodology: Respondents may submit the information by email using the DS-4053, or by letter using fax or postal mail.

Shapleigh C. Drisko,
Director, Office of Small and Disadvantaged Business Utilization, U.S. Department of State.

[FR Doc. 2013-27563 Filed 11-15-13; 8:45 am]

BILLING CODE 4710-24-P